DEPARTMENT OF THE INTERIOR

Bureau of Land Management

[20X.LLIDB00000.L16100000.DP0000.LXSS053D0000.241A.4500141729]

Notice of Availability of the Proposed Four Rivers Field Office Resource Management Plan and Final Environmental Impact Statement, Idaho

AGENCY: Bureau of Land Management, Interior.

ACTION: Notice of availability.

SUMMARY: In accordance with the National Environmental Policy Act of 1969, as amended, and the Federal Land Policy and Management Act of 1976, as amended, the Bureau of Land Management (BLM) has prepared a Proposed Resource Management Plan (RMP) and Final Environmental Impact Statement (EIS) for the Four Rivers Field Office (FRFO) and by this notice is announcing its availability.

DATES: Persons or groups with standing to protest the Proposed RMP and Final EIS must submit protests in writing within 30 days of the date that the Environmental Protection Agency publishes its Notice of Availability in the Federal Register.

ADDRESSES: The Proposed RMP and Final EIS are available on the BLM ePlanning project website at http://go.usa.gov/xnsn6 (case sensitive). Click the “Documents and Report” link on the left side of the screen to find the electronic version of these materials. Hard copies of the Proposed RMP/Final EIS are also available for public inspection at the Idaho State Office, 1387 South Vinnell Way, Boise ID 83709 and the Boise District Office, 3948 Development Ave., Boise ID 83705.

All protests must be in writing and filed with the BLM Director, either as a hard copy or electronically via the BLM's ePlanning project website listed previously. To submit a protest electronically, go to the ePlanning project website and follow the protest instructions highlighted at the top of the home page. If submitting a protest in hard copy, it must be mailed to one of the following addresses:

Regular Mail: BLM Director (210), Attention: Protest Coordinator, P.O. Box 71383, Washington, D.C. 20024-1383

Overnight Delivery: BLM Director (210), Attention: Protest Coordinator, Attention: Protest Coordinator, 20 M Street SE., Room 2134LM, Washington, D.C. 20003

FOR FURTHER INFORMATION CONTACT: Brent Ralston, Field Manager; telephone 208-384-3300; address 3948 Development Ave, Boise, ID 83705; email Four_Rivers_RMP@blm.gov. Persons who use a telecommunications device for the deaf (TDD) may call the Federal Relay Service (FRS) at 1-800-877-8339 to contact Mr. Ralston during normal business hours. The FRS is available 24 hours a day, 7 days a week, to leave a message or question. You will receive a reply during normal business hours.

SUPPLEMENTARY INFORMATION: The FRFO encompasses an area in southwestern Idaho extending north of the Snake River from approximately Glenns Ferry in the southeast, west to Weiser, and north to McCall. The planning area includes all public lands within the FRFO located outside of the the Morley Nelson Snake River Birds of Prey National Conservation Area (NCA), which is governed by a separate RMP. The Four Rivers RMP will determine management for approximately 783,000 surface acres and 1,173,150 acres of mineral estate in Ada, Adams, Boise, Camas, Canyon, Elmore, Gem, Owyhee, Payette, Valley, and Washington counties administered by the BLM. Much of the planning area comprises interspersed sections of public, private, State or U.S. Forest Service lands. When approved, the Four Rivers RMP will replace the 1983 Kuna Management Framework Plan, the 1987 Jarbidge RMP, and the 1988 Cascade RMP.

The BLM engaged in public scoping to help identify planning issues that directed the formulation of alternatives and framed the analysis. Issues include managing the scattered BLM-administered land base, balancing increasing public demand with conservation of resources, and balancing resource uses (including energy development). The planning effort also considers socio-economic concerns and special designations including lands with wilderness characteristics, wild and scenic rivers and Areas of Critical Environmental Concern (ACECs).

The Draft RMP/Draft EIS evaluated four alternatives in detail. Alternative A, the No Action Alternative, continues current management in the existing Land Use Plans (LUP). It does not address issues that were nonexistent or unforeseen when the BLM prepared the original LUPs.

Alternative B protects natural resource values from potential impacts of population growth and increased use and incorporates protective measures for plants and wildlife compared to other alternatives. While some areas emphasize recreation and community development uses, the primary emphases are for conservation and reduction of habitat fragmentation and resource degradation.

Alternative C accommodates increased population growth and use of public lands by emphasizing land disposal for local community expansion, providing economic expansion through extractive and renewable energy resource development and continues to provide recreational opportunities.

Alternative D, the Preferred Alternative in the Draft RMP/Draft EIS, is the Proposed Plan in the Final EIS and emphasizes management of public lands to promote economic development while maintaining natural resource values. The Proposed RMP opens some areas to fluid mineral development, improves opportunities to manage or reduce invasive annual grasses, maintains three ACECs, and improves opportunities for access to public lands. The FRFO Draft RMP/Draft EIS public comment period began on May 24, 2019, and was extended for 30 days at the request of the State of Idaho to September 23, 2019. The BLM conducted four public open house meetings during the public comment period. The BLM considered and incorporated, as appropriate, comments on the Draft RMP/Draft EIS received from the public, State of Idaho, other cooperating agencies and internal BLM review. Public comments resulted in the addition of management actions and clarifying text and the retention of the Boise Front ACEC. These changes do not significantly change the proposed LUP decisions.

Instructions for filing a protest with the Director of the BLM regarding the Proposed RMP and Final EIS may be found online at https://www.blm.gov/programs/planning-and-nepa/public-participation/filing-a-plan-protest and at 43 CFR 1610.5-2. All protests must be in writing and mailed to the appropriate address, as set forth in the ADDRESSES section or submitted electronically through the BLM ePlanning project website as described above. Protests submitted electronically by any means other than the ePlanning project website protest section will be invalid unless a protest is also submitted in hard copy. Protests submitted by fax will also be invalid unless also submitted either through ePlanning project website protest section or in hard copy.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

John F. Ruhs,
Idaho BLM State Director.

[FR Doc. 2020-03035 Filed 2-14-20; 8:45 am]

BILLING CODE 4310-GG-P